DEPARTMENT OF DEFENSE

Department of the Army, Corps of Engineers

Notice of Availability of Final Environmental Impact Statement for the Sunridge Properties in the Sunridge Specific Plan Area, in Rancho Cordova, Sacramento County, CA, ID SPK-2009-00511

AGENCY: Department of the Army, U.S. Army Corps of Engineers, DOD.

ACTION: Notice of availability.

SUMMARY: The U.S. Army Corps of Engineers, Sacramento District, (Corps) is issuing a Final Environmental Impact Statement (EIS) which analyzes programmatically the direct, indirect and cumulative effects associated with six residential development projects in the Sunridge Specific Plan area in Rancho Cordova, Sacramento County, CA.

The purpose of the EIS is to provide decision-makers and the public with information pertaining to the Proposed Action and alternatives, and disclose environmental impacts and identify mitigation measures to reduce impacts. The Proposed Action is the construction of the six projects (collectively, the “Sunridge Properties”) which would require the filling of approximately 29.7 acres of waters of the United States, including wetlands. The EIS has been prepared as part of ongoing litigation concerning Department of the Army (DA) permits issued by the Corps between 2005 and 2007 for five of the projects and a pending DA permit decision for the sixth. A stay in the litigation is in place for the Corps to complete the EIS.

The EIS was prepared in accordance with the National Environmental Policy Act (NEPA) of 1969, as amended, and the Corps' regulations for NEPA implementation at 33 Code of Federal Regulations parts 230 and 325 Appendix B. The Corps is the lead Federal agency responsible for complying with NEPA and information contained in the EIS serves as the basis for decisions regarding issuance of a DA permit.

DATES: Comments on the Final EIS must be submitted to the Corps by November 15, 2010.

ADDRESSES: Please send written comments to Michael Jewell, Chief of the Regulatory Division, U.S. Army Corps of Engineers, Sacramento District, 1325 J Street, Room 1480, Sacramento, CA 95814-2922. You may also e-mail your comments to michael.s.jewell@usace.army.mil.

FOR FURTHER INFORMATION CONTACT: Michael Jewell, (916) 557-6605, e-mail: michael.s.jewell@usace.army.mil.

SUPPLEMENTARY INFORMATION: The Sunridge Specific Plan area is a master-planned area consisting of nine residential and commercial developments located in eastern Rancho Cordova, Sacramento County, CA. The Specific Plan, which was originally approved by the County of Sacramento in 2002, is part of a larger planning effort in the City of Rancho Cordova called the Sunrise-Douglas Community Plan. Three of the nine projects in the Sunridge Specific Plan area have been built. The Proposed Action is the construction of the remaining six projects in the Specific Plan area. Collectively, these six projects are referred to as the Sunridge Properties. The overall purpose of the action is to construct a large residential development, including supporting infrastructure, in southeastern Sacramento County, California.

Between 2005 and 2007, the Corps completed Environmental Assessments, made Findings of No Significant Impact, and issued DA permits for five of the six Sunridge Specific Plan projects. The permitted projects are Anatolia IV, Sunridge Village J, Grantline 208, Douglas Road 98, and Douglas Road 103. A DA permit decision has not been rendered for the sixth project, Arista Del Sol.

The EIS includes an evaluation of a reasonable range of alternatives, including several on-site and off-site alternatives. Three alternatives were carried through for detailed analysis: (1) The no action alternative, (2) the proposed action (the applicants' preferred projects), and (3) a reduced footprint alternative. The no action alternative is limited to development in uplands, avoiding all waters of the United States. The reduced development footprint alternative involves less development with fewer impacts to waters of the United States.

A Draft EIS was issued on July 2, 2010. The Draft EIS was noticed in the Federal Register on July 2, 2010 (Vol. 75, No. 127, page 38502) and a public notice was issued by the Corps, both soliciting public input. The Corps also held public meetings on July 27, 2010, regarding the EIS. During the public review period, the Corps received eleven letters with comments. The Final EIS includes responses to each of the comments received.

Comments on the Final EIS must be submitted to the Corps by November 15, 2010. The public and affected federal, state, and local agencies, Native American tribes, and other organizations and parties are invited to comment. Electronic copies of the Draft EIS may be found on the Corps' Web site at http://www.spk.usace.army.mil/organizations/cespk-co/regulatory/EISs/EIS-index.html. A hard copy of the Final EIS may also be requested by contacting Michael Jewell. In addition to this notice, the Corps will issue a public notice advising interested parties of the availability of the Final EIS. Interested parties may register for Corps' public notices at: http://www.spk.usace.army.mil/organizations/cespk-co/regulatory/pnlist.html. All comments on the Final EIS will be addressed in the Record of Decision.

Dated: October 5, 2010.
Michael S. Jewell,
Chief, Regulatory Division, Sacramento District, U.S. Army Corps of Engineers.

[FR Doc. 2010-25989 Filed 10-14-10; 8:45 am]

BILLING CODE 3720-58-P